DEPARTMENT OF HOMELAND SECURITY

Coast Guard

[USCG-2009-0065]

National Offshore Safety Advisory Committee

AGENCY: Coast Guard, DHS.

ACTION: Notice of open teleconference meeting.

SUMMARY: On February 13, 2009, the Coast Guard published a Federal Register notice announcing a teleconference meeting of the National Offshore Safety Advisory Committee (NOSAC). NOSAC will discuss data on foreign vessels arriving on the U.S. Outer Continental Shelf from abroad as well as other items that it may consider. This notice supplements that original teleconference meeting notice.

ADDRESSES: The Committee will meet, via telephone conference, on February 26, 2009. Members of the public interested in participating in the teleconference may contact Commander P.W. Clark at 202-372-1410 for call in information or they may participate in person by coming to Room 1303, U.S. Coast Guard Headquarters Building, 2100 Second Street, SW., Washington, DC 20593. As there are a limited number of teleconference lines, public participation will be on a first come basis. Members of the public may submit written comments to Commander P.W. Clark, Designated Federal Officer of NOSAC, Commandant (CG-5222), 2100 Second Street, SW., Washington, DC 20593-0001; or by fax to 202-372-1926. Comments should reach Commander P.W. Clark on or before February 25, 2009. The teleconference meeting notice, and this supplemental notice is available on our online docket, USCG-2009-0065, at http://www.regulations.gov.

FOR FURTHER INFORMATION CONTACT: Commander P.W. Clark, Designated Federal Officer of NOSAC, or Mr. Jim Magill, Assistant Designated Federal Officer, telephone 202-372-1414, fax 202-372-1926.

SUPPLEMENTARY INFORMATION: Notice of this teleconference meeting is given under the Federal Advisory Committee Act, 5 U.S.C. App. 2. The teleconference meeting agenda was published as part of the original notice on February 13, 2009, which can be found in the Federal Register at 72 FR 7243. The Federal Advisory Committee Act requires Federal Register publication 15 days prior to a meeting held in accordance with the Act. The original NOSAC teleconference meeting announcement was published in the Federal Register 13 days prior to the meeting due to delays in the renewal of the NOSAC Charter. Further, due to scheduling conflicts, we were unable to delay this teleconference to a date past February 26, 2009.

The Coast Guard has made all known interested parties aware of the teleconference meeting with sufficient time for planning purposes.

M.L. Blair,
Acting Director of Commercial Regulations and Standards.

[FR Doc. E9-3558 Filed 2-18-09; 8:45 am]

BILLING CODE 4910-15-P